DEPARTMENT OF COMMERCE

National Oceanic and Atmospheric Administration

[RIN 0648-XA565]

Caribbean Fishery Management Council; Scoping Meetings

AGENCY: National Marine Fisheries Service (NMFS), National Oceanic and Atmospheric Administration (NOAA), Commerce.

ACTION: Notice of public hearings.

SUMMARY: The Caribbean Fishery Management Council will hold public hearings to obtain input from fishers, the general public, and the local agencies representatives on the Draft Comprehensive Amendment to the FMPs establishing annual catch limits (ACL) and accountability measures (AMs) for species not overfished or undergoing overfishing.

DATES AND ADDRESSES: The scoping meetings will be held on the following dates and locations:

For Puerto Rico

August 2, 2011, DoubleTree by Hilton San Juan, De Diego Avenue, San Juan, Puerto Rico.

August 3, 2011, Holiday Inn Ponce & Tropical Casino, 3315 Ponce By Pass, Ponce, Puerto Rico.

August 4, 2011, Mayagüez Holiday Inn, 2701 Hostos Avenue, Mayagüez, Puerto Rico.

For the U.S. Virgin Islands

August 3, 2011, The Buccaneer Hotel, Estate Shoys, Christiansted, St. Croix, U.S. Virgin Islands.

August 4, 2011, Holiday Inn (Windward Passage Hotel) Charlotte Amalie, St. Thomas, U.S. Virgin Islands.

All meetings will be held from 7 to 10 p.m.

FOR FURTHER INFORMATION CONTACT: Caribbean Fishery Management Council, 268 Muñoz Rivera Avenue, Suite 1108, San Juan, Puerto Rico 00918-1920, telephone (787) 766-5926.

SUPPLEMENTARY INFORMATION: The Caribbean Fishery Management Council will hold public hearings to receive public input on the following management options. The complete document is available at: http://www.caribbeanfmc.com or you may contact Ms. Livia Montalvo at livia_montalvo_cfmc@yahoo.com, or the Council office at (787) 766-5926 to obtain copies.

4.0 Actions and Alternatives

4.1 Action 1: Management Reference Points for Species not Undergoing Overfishing within the Reef Fish FMP

4.1.1 Action 1(a). Establish a year sequence for determining average annual landings for each species or species group within the Reef Fish Fishery Management Plan (FMP).

Alternative 1. No action. Retain the year sequence as defined in the 2005 Comprehensive Sustainable Fisheries Act Amendment (Caribbean SFA Amendment).

Alternative 2. Redefine management reference points or proxies for the Reef Fish FMP based on the longest year sequence of reliable landings data.

Table 4.1.1—Year Sequences by Island Group Under Alternative 2
Reference point | Year sequence
Puerto Rico Commercial | 1988-2009
Puerto Rico Recreational | 2000-2009
St. Croix | 1999-2008
St. Thomas/St. John | 2000-2008

Alternative 3. Redefine management reference points or proxies for the Reef Fish FMP based on the longest year sequence of pre-Caribbean SFA Amendment landings data that is considered consistently reliable across all islands.

Table 4.1.2—Year Sequences by Island Group Under Alternative 3
Reference point | Year sequence
Puerto Rico Commercial | 1999-2005
Puerto Rico Recreational | 2000-2005
St. Croix | 1999-2005
St. Thomas/St. John | 2000-2005

Alternative 4. Redefine management reference points or proxies for the Reef Fish FMP based on the longest year sequence of recent reliable landings data.

Table 4.1.3—Year sequences by Island Group Under Alternative 4
Reference point | Year sequence
Puerto Rico Commercial | 1999-2009
Puerto Rico Recreational | 2000-2009
St. Croix | 1999-2008
St. Thomas/St. John | 2000-2008

Alternative 5. Redefine management reference points or proxies for the Reef Fish FMP based on the most recent five years of available landings data.

Table 4.1.4—Year Sequences by Island Group Under Alternative 5
Reference point | Year sequence
Puerto Rico Commercial | 2005-2009
Puerto Rico Recreational | 2005-2009
St. Croix | 2004-2008
St. Thomas/St. John | 2004-2008

4.1.2 Action 1(b). Establish management reference points for the reef fish species not undergoing overfishing.

Sub-Action 1. Establish management reference points for the reef fish species not undergoing overfishing in Puerto Rico.

Alternative 1: No action. Retain current management reference points or proxies for species/species groups.

Alternative 2(a) through 2(o): Redefine management reference points or proxies based on the year sequence of landings data as defined in Action 1(a) Alternatives 1-5.

Sub-Action 2. Establish management reference points for the reef fish species not undergoing overfishing in St Croix.

Alternative 1: No action. Retain current management reference points or proxies for species/species groups.

Alternative 2(a) through 2(o): Redefine management reference points or proxies based on the year sequence of landings data as defined in Action 1(a) Alternatives 1-5.

Sub-Action 3. Establish management reference points for the reef fish species not undergoing overfishing in St. Thomas/St. John.

Alternative 1: No action. Retain current management reference points or proxies for species/species groups.

Alternative 2(a) through 2(o): Redefine management reference points or proxies based on the year sequence of landings data as defined in Action 1(a) Alternatives 1-5.

Table 4.1.4—Current MSY Proxy, OY and Overfishing Threshold Definitions for Species/Species Groups
Reference point | Alternative 1—Status quo definition
Maximum Sustainable Yield | MSY proxy = C/[(FCURR/FMSY) × (BCURR/BMSY)]; where C is calculated based on commercial landings for the years 1997-2001 for Puerto Rico and 1994-2002 for the USVI, and on recreational landings for the years 2000-2001.
Overfishing Threshold | MFMT = FMSY.
Optimum Yield | OY = average yield associated with fishing on a continuing basis at FOY; where FOY = 0.75FMSY.

Table 4.1.5—Management Reference Points or Proxies Proposed for the Reef Fish Species not Undergoing Overfishing Under Alternative 2
Reference point |
Maximum Sustainable Yield:
Alternative 2(a) | MSY proxy = Median annual landings selected by Council in Action 2(a).
Alternative 2(b) | MSY proxy = Mean annual landings selected by Council in Action 2(a).
Alternative 2(c) | MSY proxy = Maximum of a single year of recreational landings × 3.
Overfishing Threshold:
Alternative 2(d) | OFL = MSY proxy adjusted according to the ORCS scalar; overfishing occurs when annual landings exceed the OFL.
Alternative 2(e) | OFL = MSY proxy adjusted according to the ORCS scalar; overfishing occurs when annual landings exceed the OFL, unless NOAA Fisheries' Southeast Fisheries Science Center (in consultation with the Caribbean Fishery Management Council and its SSC) determines the overage occurred because data collection/monitoring improved, rather than because landings actually increased.
Alternative 2(f) | OFL = MSY proxy; overfishing occurs when annual landings exceed the OFL.
Alternative 2(g) | OFL = MSY proxy; overfishing occurs when annual landings exceed the OFL, unless NOAA Fisheries' Southeast Fisheries Science Center (in consultation with the Caribbean Fishery Management Council and its SSC) determines the overage occurred because data collection/monitoring improved, rather than because landings actually increased.
Acceptable Biological Catch/ABC Control Rule:
Alternative 2(h) | ABC= OFL.
Alternative 2(i) | ABC= [OFL × 0.85].
Alternative 2(j) | ABC= [OFL × 0.75].
Alternative 2(k) | ABC= [OFL × 0.50].
Optimum Yield/Annual Catch Limit:
Alternative 2(l) | OY = ACL = ABC.
Alternative 2(m) | OY = ACL = [ABC × (0.85)].
Alternative 2(n) | OY = ACL = [ABC × (0.75)].
Alternative 2(o) | OY = ACL = [ABC × (0.50)].

4.2 Action 2: Management Reference Points for the Caribbean Spiny Lobster

4.2.1 Action 2(a). Establish a year sequence for determining average annual landings for the Caribbean Spiny Lobster.

Alternative 1. No action. Retain the year sequence for Caribbean Spiny Lobster FMP landings as defined in the Caribbean SFA Amendment.

Alternative 2. Redefine management reference points or proxies for the Caribbean Spiny Lobster FMP based on the longest year sequence of reliable landings data.

Table 4.2.1—Year Sequences by Island Group Under Alternative 2
Reference point | Year sequence
Puerto Rico | 1988-2009
St. Croix | 1999-2008
St. Thomas/St. John | 2000-2008

Alternative 3. Redefine management reference points or proxies for the Caribbean Spiny Lobster FMP based on the longest year sequence of pre-Caribbean SFA Amendment landings data that is considered consistently reliable across all islands.

Table 4.2.2—Year Sequences by Island Group Under Alternative 3
Reference point | Year sequence
Puerto Rico | 1999-2005
St. Croix | 1999-2005
St. Thomas/St. John | 2000-2005

Alternative 4. Redefine management reference points or proxies for the Caribbean Spiny Lobster FMP based on the longest year sequence of recent reliable landings data.

Table 4.2.3—Year Sequences by Island Group Under Alternative 4
Reference point | Year sequence
Puerto Rico | 1999-2009
St. Croix | 1999-2008
St. Thomas/St. John | 2000-2008

Alternative 5. Redefine management reference points or proxies for the Caribbean Spiny Lobster FMP based on the most recent five years of available landings data.

Table 4.2.4—Year Sequences by Island Group Under Alternative 5
Reference point | Year sequence
Puerto Rico | 2005-2009
St. Croix | 2004-2008
St. Thomas/St. John | 2004-2008

4.2.2 Action 2(b). Establish management reference points for the Caribbean Spiny Lobster.

Sub-Action 1. Establish management reference points for the Caribbean Spiny Lobster in Puerto Rico.

Alternative 1: No action. Retain current management reference points or proxies for spiny losbter.

Alternative 2(a) through 2(n): Redefine management reference points or proxies based on the year sequence of landings data as defined in Action 2(a) Alternatives 1-5.

Sub-Action 2. Establish management reference points for the Caribbean Spiny Lobster in St. Croix.

Alternative 1: No action. Retain current management reference points or proxies for spiny lobster.

Alternative 2(a) through 2(n): Redefine management reference points or proxies based on the year sequence of landings data as defined in Action 2(a) Alternatives 1-5.

Sub-Action 3. Establish management reference points for the Caribbean Spiny Lobster in St. Thomas/St. John.

Alternative 1: No action. Retain current management reference points or proxies for spiny lobster groups.

Alternative 2(a) through 2(n): Redefine management reference points or proxies based on the year sequence of landings data as defined in Action 2(a) Alternatives 1-5.

Table 4.2.4—Current MSY Proxy, OY and Overfishing Threshold Definitions for Spiny Lobster
Reference point | Alternative 1—Status quo definition
Maximum Sustainable Yield | MSY proxy = C/[(FCURR/FMSY) × (BCURR/BMSY)]; where C is calculated based on commercial landings for the years 1997-2001 for Puerto Rico and 1994-2002 for the USVI, and on recreational landings for the years 2000-2001.
Overfishing Threshold | MFMT = FMSY.
Optimum Yield | OY = average yield associated with fishing on a continuing basis at FOY; where FOY = 0.75FMSY.

Table 4.2.5—Management Reference Points or Proxies Proposed for Spiny Lobster Under Alternative 2
Reference point |
Maximum Sustainable Yield:
Alternative 2(a) | MSY proxy = Median annual landings selected by Council in Action 2(a).
Alternative 2(b) | MSY proxy = Mean annual landings selected by Council in Action 2(a).
Overfishing Threshold:
Alternative 2(c) | OFL = MSY proxy adjusted according the ORCS scalar; overfishing occurs when annual landings exceed the OFL.
Alternative 2(d) | OFL = MSY proxy adjusted according the ORCS scalar; overfishing occurs when annual landings exceed the OFL, unless NOAA Fisheries' Southeast Fisheries Science Center (in consultation with the Caribbean Fishery Management Council and its SSC) determines the overage occurred because data collection/monitoring improved, rather than because landings actually increased.
Alternative 2(e) | OFL = MSY proxy; overfishing occurs when annual landings exceed the OFL.
Alternative 2(f) | OFL = MSY proxy; overfishing occurs when annual landings exceed the OFL, unless NOAA Fisheries' Southeast Fisheries Science Center (in consultation with the Caribbean Fishery Management Council and its SSC) determines the overage occurred because data collection/monitoring improved, rather than because landings actually increased.
Acceptable Biological Catch/ABC Control Rule:
Alternative 2(g) | ABC= OFL.
Alternative 2(h) | ABC= [OFL × 0.85].
Alternative 2(i) | ABC= [OFL × 0.75].
Alternative 2(j) | ABC= [OFL × 0.50].
Optimum Yield/Annual Catch Limit:
Alternative 2(k) | OY = ACL = ABC.
Alternative 2(l) | OY = ACL = [ABC × (0.85)].
Alternative 2(m) | OY = ACL = [ABC × (0.75)].
Alternative 2(n) | OY = ACL = [ABC × (0.50)].

4.3 Action 3: Redefine Management of the Aquarium Trade Species Fishery Management Units (FMUs) Within the Reef Fish FMP and the Coral and Reef Associated Plants and Invertebrates FMP (Coral FMP)

4.3.1 Action 3(a): Redefine the management of aquarium trade species FMU.

Alternative 1: No action. Retain aquarium trade species in both the Corals and Reef Associated Plants and Invertebrates FMP (Coral FMP) and the Reef Fish FMP as defined in the Caribbean SFA Amendment.

Alternative 2: Consolidate all aquarium trade species listed in the FMP for Coral FMP and the Reef Fish FMP into a single FMP.

Alternative 2A: Move all aquarium trade species listed in the Coral FMP into the Reef Fish FMP.

Alternative 2B: Move all of the aquarium trade species listed in the Reef Fish FMP into the Coral FMP.

Alternative 2C: Move all of the aquarium trade species listed in both the Coral FMP and the Reef Fish FMPs into a new FMP specific to aquarium trade species.

Alternative 3: Remove all aquarium trade species from both the Coral FMP and from the Reef Fish FMPs.

Alternative 4: Manage only those aquarium trade species listed in either the Coral FMP or the Reef Fish FMP, for which landings data are available during the year sequence chosen in Action 1(a). Remove remaining aquarium trade species from the Coral FMP and the Reef Fish FMP.

Alternative 4A: Aquarium trade species that continue to be Federally-managed under this alternative will be retained in either the Coral FMP or the Reef Fish FMP as listed after the Caribbean SFA Amendment (Table 4.3.1).

Alternative 4B: Aquarium trade species that continue to be Federally-managed under this alternative will be consolidated and moved into the Coral FMP.

Alternative 4C: Aquarium trade species that continue to be Federally-managed under this alternative will be consolidated and moved into the Reef fish FMP.

Alternative 4D: Aquarium trade species that continue to be Federally-managed under this alternative will be consolidated and moved into a new FMP specific to aquarium trade species.

Alternative 5: Delegate management authority for all aquarium trade species listed in either the Coral FMP or the Reef Fish FMP to the jurisdiction of the appropriate commonwealth or territory as defined by Action 5 of this document.

Table 4.3.1. List of all species included in the Aquarium Trade category in both the Reef Fish and Coral FMPs. Table contents are extracted from Table 8 of the Comprehensive Amendment to the FMPs of the U.S. Caribbean to Address Required Provisions of the Magnuson-Stevens Fishery Conservation and Management Act (Caribbean SFA Amendment).

Reef Fish FMP

Clepticus parrae, Creole wrasse.

Halichoeres garnoti, Yellowhead wrasse.

Halichoeres cyanocephalus, Yellowcheek wrasse.

Halichoeres maculipinna, Clown wrasse.

Thalassoma bifasciatum, Bluehead wrasse.

Liopropoma rubre, Swissguard basslet.

Gramma loreto, Royal gramma.

Microspathodon chrysurus, Yellowtail damselfish.

Stegastes adustus, Dusky damselfish.

Stegastes partitus, Bicolor damselfish.

Stegastes planifrons, Threespot damselfish.

Stegastes leucostictus, Beaugregory.

Chaetodon capistratus, Foureye butterflyfish.

Chaetodon aculeatus, Longsnout butterflyfish.

Chaetodon ocellatus, Spotfin butterflyfish.

Chaetodon striatus, Banded butterflyfish.

Serranus baldwini, Lantern bass.

Serranus annularis, Orangeback bass.

Serranus tabacarius, Tobaccofish.

Serranus tigrinus, Harlequin bass.

Serranus tortugarum, Chalk bass.

Opistognathus aurifrons, Yellowhead jawfish.

Opistognathus whitehursti, Dusky jawfish.

Xyrichtys novacula, Pearly razorfish.

Xyrichtys splendens, Green razorfish.

Echidna catenata, Chain moray.

Gymnothorax funebris, Green moray.

Gymnothorax miliaris, Goldentail moray.

Elacatinus oceanops, Neon goby.

Priolepis hipoliti, Rusty goby.

Equetus lanceolatus, Jackknife-fish.

Equetus punctatus, Spotted drum.

Chromis cyanea, Blue chromis.

Chromis insolata, Sunshinefish.

Abudefduf saxatilis, Sergeant major.

Astrapogon stellatus, Conchfish.

Apogon maculatua, Flamefish.

Amblycirrhitus pinos, Redspotted hawkfish.

Antennarius spp., Frogfish.

Bothus lunatus, Peacock flounder.

Chaetodipterus faber, Atlantic spadefish.

Canthigaster rostrata, Sharpnose puffer.

Centropyge argi, Cherubfish.

Diodon hystrix, Porcupinefish.

Dactylopterus volitans, Flying gurnard.

Heteropriacanthus cruentatus, Glasseye snapper.

Hypoplectrus unicolor, Butter hamlet.

Holocanthus tricolor, Rock beauty.

Myrichthys ocellatus, Goldspotted eel.

Ophioblennius macclurei, Redlip blenny.

Pareques acuminatus, High-hat.

Rypticus saponaceus, Greater sopafish.

Synodus intermedius, Sand diver.

Symphurus diomedianus, Caribbean tonguefish.

Family Syngnathidae, Pipefishes and Seahorses.

Family Ogcocephalidae, Batfish.

Family Scorpaenidae, Scorpionfish.

Table 4.3.1. (continued). List of all species included in the Aquarium Trade category in both the Reef Fish and Coral FMPs. Table contents are extracted from Table 8 of the Comprehensive Amendment to the FMPs of the U.S. Caribbean to Address Required Provisions of the Magnuson-Stevens Fishery Conservation and Management Act (Caribbean SFA Amendment).

Coral FMP

Aphimedon compressa, Erect rope sponge

Astrophyton muricatum, Giant basket star

Alpheaus armatus, Snapping shrimp

Aiptasia tagetes, Pale anemone

Astropecten spp., Sand stars

Analcidometra armata, Swimming crinoid

Bartholomea annulata, Corkscrew anemone

Cynachirella alloclada, sponge (no common name)

Condylactis gigantea, Giant pink-tipped anemone

Cyphoma gibbosum, Flamingo tongue

Chondrilla nucula, Chicken liver sponge

Diadema antillarum, Long-spined urchin

Davidaster spp., Crinoids

Discosoma spp., False coral

Echinometra spp., Purple urchin

Eucidaris tribuloides, Pencil urchin

Gonodactylus (Neogonodactylus) spp., Smashing mantis shrimp

Geodia neptuni, Potato sponge

Haliclona sp., Finger sponge

Holothuria spp., Sea cucumbers

Hereractis lucida, Knobby anemone

Lima spp., Fileclams

Lima scabra, Rough fileclam

Lytechinus spp., Pin cushion urchin

Lysmata spp., Peppermint shrimp

Linckia guildingii, Common comet star

Lysiosquilla spp., Spearing mantis shrimp

Lebrunia spp., Staghorn anemone

Mithrax spp., Clinging crabs

Mithrax cinctimanus, Banded clinging crab

Mithrax sculptus, Green clinging crab

Myriastra sp., sponge (no common name)

Niphates digitalis, Pink vase sponge

Niphates erecta, Lavender rope sponge

Nemaster spp., Crinoids

Ophiocoma spp., Brittlestars

Ophioderma spp., Brittlestars

Ophioderma rubicundum, Ruby brittlestar

Oreaster reticulatus, Cushion sea star

Ophidiaster guildingii, Comet star

Oliva reticularis, Netted olive

Octopus spp. (except the Common octopus, O. vulgaris)

Paguristes spp., Hermit crabs

Paguristes cadenati, Red reef hermit crab

Percnon gibbesi, Nimble spray crab

Periclimenes spp., Cleaner shrimp

Ricordia florida, Florida false coral

Stichodactyla helianthus, Sun anemone

Spirobranchus giganteus, Christmas tree worm

Sabellastarte magnifica, Magnificent duster

Sabellastarte spp., Tube worms

Stenopus scutellatus, Golden shrimp

Stenopus hispidus, Banded shrimp

Stenorhynchus seticornis, Yellowline arrow crab

Spondylus americanus, Atlantic thorny oyster

Spinosella plicifera, Iridescent tube sponge

Spinosella vaginalis, Lavendar tube sponge

Tripneustes ventricosus, Sea egg urchin

Thor amboinensis, Anemone shrimp

Tectitethya (Tethya) crypta, sponge (no common name)

Subphylum Urochordata, Tunicates

Tridachia crispata, Lettuce sea slug

Zoanthus spp., Sea mat

4.3.2 Action 3(b). Establish management reference points for the aquarium trade species FMU. Alternative 1: No action. Keep the aquarium trade species in the “data collection only” category as defined in the Caribbean SFA Amendment.

Alternative 2(a) through 2(k): Establish management reference points or proxies for the aquarium trade species based on alternative selected in Action 3(a) and time series of landings data as defined in Action 1(a) in Alternatives 1-5.

Table 4.3.2—Management Reference Points or Proxies Proposed for the Aquarium Trade Species Under Alternative 2
Reference Point |
Maximum Sustainable Yield:
Alternative 2(a) | MSY proxy = Median annual landings selected by Council in Action 2(a).
Alternative 2(b) | MSY proxy = Mean annual landings selected by Council in Action 2(a).
Overfishing Threshold:
Alternative 2(c) | OFL = MSY proxy; overfishing occurs when annual landings exceed the OFL.
Alternative 2(d) | OFL = MSY proxy; overfishing occurs when annual landings exceed the OFL, unless NOAA Fisheries' Southeast Fisheries Science Center (in consultation with the Caribbean Fishery Management Council and its SSC) determines the overage occurred because data collection/monitoring improved, rather than because landings actually increased.
Acceptable Biological Catch/ABC Control Rule:
Alternative 2(e) | ABC = OFL.
Alternative 2(f) | ABC = [OFL × 0.85].
Alternative 2(g) | ABC = [OFL × 0.75].
Alternative 2(h) | ABC = [OFL × 0.50].
Optimum Yield/Annual Catch Limit:
Alternative 2(i) | OY = ACL = ABC.
Alternative 2(j) | OY = ACL = [ABC × (0.85)].
Alternative 2(k) | OY = ACL = [ABC × (0.75)].
Alternative 2(l) | OY = ACL = [ABC × (0.50)].

4.4 Action 4: Redefine the Management of Conch Species FMU Within the Queen Conch FMP

Alternative 1: No action. Do not re-evaluate and revise the conch species FMU.

Alternative 2: Remove all conch species, except for the queen conch (Strombus gigas), from the Queen Conch FMP.

Alternative 3: Delegate management authority, for all conch species except queen conch (Strombus gigas), listed in the Queen Conch FMP, to the jurisdiction of the appropriate commonwealth or territory as defined by Action 5.

Alternative 4: Retain all conch species under the Queen Conch FMP and define management reference points or proxies based on the ACL established for queen conch in the 2010 Caribbean ACL Amendment public hearing draft.

Table 4.4.1—List of Conch Species Within the Queen Conch FMP Not Undergoing Overfishing as Established in the Caribbean SFA Amendment
Scientific names | Common names
Strombus gigas | Queen conch.
Strombus costatus | Milk conch.
Strombus pugilis | West Indian Fighting Conch.
Strombus gallus | Roostertail Conch.
Strombus raninus | Hawkwing Conch.
Fasciolaria tulipa | True Tulip.
Charonia variegata | Atlantic Triton's Trumpet.
Cassis madagascarensis | Cameo Helmet.
Astrea tuber | Green Start Shell.

4.5 Action 5. Geographic Allocation/Management

Alternative 1. No Action. Maintain U.S. Caribbean-wide reference points.

Alternative 2. Divide and manage ACLs by island group (i.e., Puerto Rico, St. Thomas/St. John, St. Croix) based on the preferred management reference point time series selected by the Council in Actions 1(a) and 2(a).

Alternative 2A. Use a mid-point or equidistant method for dividing the EEZ among islands.

Alternative 2B. Use a straight-line approach for dividing the EEZ among islands.

Alternative 2C. Use the St. Thomas Fishermen's Association recommendation for dividing the EEZ among islands.

BILLING CODE 3510-22-P

BILLING CODE 3510-22-C

4.6 Action 6: Annual Catch Limit Allocation and Management

4.6.1 Action 6(a) Separation of recreational and commercial sectors (Puerto Rico only).

Alternative 1. No action. Do not specify sector-specific ACLs.

Alternative 2. Specify separate commercial and recreational ACLs based on the preferred management reference point time series.

4.6.2 Action 6(b) Establish bag limit restrictions on recreational reef fish harvest.

Alternative 1. No action. Do not establish bag limit restrictions on recreational reef fish harvest.

Alternative 2. Establish a 5-fish aggregate bag limit per person per fishing day (would not apply to a fisher who has a valid commercial fishing license)

Alternative 3. Establish a 2-fish aggregate bag limit per person per fishing day (would not apply to a fisher who has a valid commercial fishing license)

Alternative 4. Prohibits the harvest of species in the surgeonfish FMU (would not apply to a fisher who has a valid commercial fishing license).

Alternative 5. Establish an aggregate bag limit of 10 fish per fisher including not more than two surgeonfish per fisher or six surgeonfish per boat, and 30 aggregate fish per boat on a fishing day (would not apply to a fishers who has a valid commercial fishing license).

Alternative 6. Establish an aggregate bag limit of 5 fish per fisher including not more than two surgeonfish per fisher or six surgeonfish per boat, and 15 aggregate fish per boat on a fishing day (would not apply to a fisher who has a valid commercial fishing license).

4.6.3 Action 6(c) Establish bag limit restrictions on recreational spiny lobster harvest.

Alternative 1. No action. Do not establish bag limit restrictions on recreational lobster harvest.

Alternative 2. Establish a 5-spiny lobster aggregate bag limit per person per fishing day (would not apply to a fisher who has a valid commercial fishing license).

Alternative 3. Establish a 2-spiny lobster bag limit per person per fishing day (would not apply to a fisher who has a valid commercial fishing license).

Alternative 4. Prohibits the harvest of spiny lobster (would not apply to a fishers who has a valid commercial fishing license).

Alternative 5. Establish a bag limit of: 5 spiny lobster per fisher and 15 spiny lobster per boat on a fishing day (would not apply to a fisher who has a valid commercial fishing license).

Alternative 6. Establish a bag limit of: 2 spiny lobster per fisher and 12 spiny lobster per boat on a fishing day (would not apply to a fisher who has a valid commercial fishing license).

4.7 Action 7: Accountability Measures for Species Considered in This Amendment

Accountability measures (AMs) are defined as management controls to prevent ACLs, including sector-specific ACLs, from being exceeded, and to correct or mitigate overages of the ACL if they occur (50 CFR 310(g)(1)).

4.7.1 Action 7(a) Triggering accountability measures. Actions 1, 2, 3, and 4 include alternatives to establish and allocate ACLs. If an ACL is exceeded, AM alternatives are provided to address overages. Action 7 alternatives are presented in two parts, the first addresses the triggering of AMs and the second addresses the actual actions needed to redress overages.

Alternative 1. No Action. Do not establish criteria for triggering AMs.

Alternative 2. Trigger AMs if the ACL is exceeded based upon:

Alternative 2A: A single year of landings beginning with landings from 2011.

Alternative 2B: A single year of landings beginning with landings from 2011, then a 2-year running average of landings in 2012 (average of 2011+2012) and thereafter (i.e., 2011, 2011-2012, 2012-2013, etc.).

Alternative 2C: A single year of landings beginning with landings from 2011, a 2-year average of landings in 2012 (average of 2011+2012), then a 3-year running average of landings in 2013 (average of 2011+2012+2013) and thereafter (i.e., 2011, 2011-2012, 2011-2013, 2012-2014, etc.).

Alternative 3. Trigger AMs if the ACL is exceeded as defined below unless NOAA Fisheries' SEFSC (in consultation with the Council and its SSC) determines the overage occurred because data collection/monitoring improved rather than because catches actually increased:

Alternative 3A: A single year of landings effective beginning 2011.

Alternative 3B: A single year of landings effective beginning 2011, then a 2-year running average of landings effective 2012 and thereafter (i.e., 2011, 2011-2012, 2012-2013, etc.).

Alternative 3C: A single year of landings effective beginning 2011, a 2-year running average of landings effective 2012, then a 3-year running average of landings effective 2013 and thereafter (i.e., 2011, 2011-2012, 2011-2013, 2012-2014, etc.).

4.7.2 Action 7(b) Applying accountability measures.

Alternative 1. No Action. Do not apply AMs.

Alternative 2. If AMs are triggered, based upon the preferred criteria chosen in Action 7(a), reduce the length of the fishing season for that species or species group the year following the trigger determination by the amount needed to prevent such an overage from occurring again. The needed changes will remain in effect until modified.

Alternative 3. If AMs are triggered based upon the preferred criteria chosen in action 7(a), reduce the length of the fishing season for that species or species group the year following the trigger determination by the amount needed to prevent such an overage from occurring again and to pay back the overage. The needed changes will remain in effect until modified.

4.8 Action 8: Framework Measures

4.8.1 Action 8(a): Establish Framework Measures for Spiny Lobster FMP.

Alternative 1: No Action. Do not establish framework measures for the Spiny Lobster FMP.

Alternative 2: Amend the framework procedures for the Spiny Lobster FMP to provide a mechanism to expeditiously adjust the following reference points and management measures through framework action:

a. Quota Requirements.

b. Seasonal Closures.

c. Area Closures.

d. Fishing Year.

e. Trip/Bag Limit.

f. Size Limits.

g. Gear Restrictions or Prohibitions.

h. Fishery Management Units (FMUs).

i. Total Allowable Catch (TAC).

j. Annual Catch Limits (ACLs).

k. Accountability Measures (AMs).

l. Annual Catch Targets (ACTs).

m. Maximum Sustainable Yield (MSY).

n. Optimum Yield (OY).

o. Minimum Stock Size Threshold (MSST).

p. Maximum Fishing Mortality Threshold (MFMT).

q. Overfishing Limit (OFL).

r. Acceptable Biological Catch (ABC) Control Rules.

s. Actions To Minimize the Interaction of Fishing Gear With Endangered Species or Marine Mammals.

Alternative 3: Amend the framework procedures for the Spiny Lobster FMP to provide the Council with a mechanism to expeditiously adjust a subset of management measures outlined in Alternative 2.

4.8.2 Action 8 (b): Establish Framework Measures for Corals and Reef Associated Plants and Invertebrates FMP.

Alternative 1: No Action. Do not amend the current framework measures for the Corals FMP.

Alternative 2: Amend the framework procedures for the Coral FMP to provide a mechanism to expeditiously adjust the following reference points and management measures through framework action:

a. Quota Requirements.

b. Seasonal Closures.

c. Area Closures.

d. Fishing Year.

e. Trip/Bag Limit.

f. Size Limits.

g. Gear Restrictions or Prohibitions.

h. Fishery Management Units (FMUs).

i. Total Allowable Catch (TAC).

j. Annual Catch Limits (ACLs).

k. Accountability Measures (AMs).

l. Annual Catch Targets (ACTs).

m. Maximum Sustainable Yield (MSY).

n. Optimum Yield (OY).

o. Minimum Stock Size Threshold (MSST).

p. Maximum Fishing Mortality Threshold (MFMT).

q. Overfishing Limit (OFL).

r. Acceptable Biological Catch (ABC) control rules.

s. Actions To Minimize the Interaction of Fishing Gear With Endangered Species or Marine Mammals.

Alternative 3: Amend the framework procedures for the Coral FMP to provide the Council with a mechanism to expeditiously adjust a subset of management measures outlined in Alternative 2.

Written comments can be sent to the Council not later than August 15, 2011, or submitted at the Council meeting that will take place at La Concha hotel, in San Juan, Puerto Rico on August 30-31, 2011.

Special Accommodations

These meetings are physically accessible to people with disabilities. For more information or request for sign language interpretation and other auxiliary aids, please contact Mr. Miguel A. Rolón, Executive Director, Caribbean Fishery Management Council, 268 Muñoz Rivera Avenue, Suite 1108, San Juan, Puerto Rico 00918-1920, telephone (787) 766-5926, at least five days prior to the meeting date.

Dated: July 8, 2011.
Tracey L. Thompson,
Acting Director, Office of Sustainable Fisheries, National Marine Fisheries Service.

[FR Doc. 2011-17674 Filed 7-13-11; 8:45 am]

BILLING CODE 3510-22-P